DEPARTMENT OF HEALTH AND HUMAN SERVICES

National Institutes of Health

National Institute of Aging; Notice of Closed Meetings

Pursuant to section 10(d) of the Federal Advisory Committee Act, as amended (5 U.S.C. Appendix 2), notice is hereby give of the following meetings.

The meetings will be closed to the public in accordance with the provisions set forth in sections 552b(c)(4) and 552b(c)(6), Title 5 U.S.C., as amended. The grant applications and/or contract proposals and the discussions could disclosed confidential trade secrets or commercial property such as patentable material, and personal information concerning individuals associated with the grant applications and/or contract proposals, the disclosure of which would constitute a clearly unwarranted invasion of personal privacy.

Name of Committee: National Institute on Aging Special Emphasis Panel, Review of Contracts Dealing with Synthesis of Toxicological Compounds Involved in the Treatment of Common Diseases.

Dates: August 6, 2002.

Time: 8 AM to 5 PM.

Agenda: To review and evaluate contract proposals.

Place: 7201 Wisconsin Avenue, Bethesda, MD 20892.

Contact Person: Ramesh Vemuri, PhD, National Institute on Aging, The Bethesda Gateway Building, 7201 Wisconsin Avenue, Suite 2C212, Bethesda, MD 20892. (301) 496-9666.

Name of Committee: National Institute on Aging Special Emphasis Panel, Contract Evaluations on Synthesizing New Therapeutic Drugs.

Date: August 7, 2002.

Time: 8 AM to 5 PM.

Agenda: To reive and evaluate contract proposals.

Place: 7201 Wisconsin Avenue, Bethesda, MD 20892.

Contact Person: Arthur D. Schaerdel, DVM, Scientific Review Administrator, The Bethesda Gateway Building, 7201 Wisconsin Avenue/Suite 2C212, Bethesda, MD 20892. (301) 496-9666.

(Catalogue of Federal Domestic Assistance Program Nos. 93.866, aging Research, National Institute of Health, HHS)

Dated: July 16, 2002.
LaVerne Y. Stringfield,
Director, Office of Federal Advisory Committee Policy.

[FR Doc. 02-18508 Filed 7-22-02; 8:45 am]

BILLING CODE 4140-01-M